DEPARTMENT OF ENERGY

Federal Energy Regulatory Commission

[Docket No. RP02-174-001]

Columbia Gas Transmission Corporation; Notice of Compliance Filing

May 2, 2002.

Take notice that on April 26, 2002, Columbia Gas Transmission Corporation (Columbia) filed certain additional information to be provided in this proceeding. On March 28, 2002, the Commission issued an order in this proceeding accepting the tariff sheet filed as part of Columbia's March 1, 2002, annual retainage adjustment filing, subject to Columbia filing certain additional information in this proceeding. In this filing, Columbia is submitting the requested information.

Columbia states that copies of its filing have been mailed to all parties on the official service list in Docket No. RP02-174.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11415 Filed 5-7-02; 8:45 am]

BILLING CODE 6717-01-P